MERIT SYSTEMS PROTECTION BOARD

Performance Review Board Membership

AGENCY: Merit Systems Protection Board.

ACTION: Notice.

SUMMARY: The Merit Systems Protection Board announces the appointment of the members of its Senior Executive Service Performance Review Board. This notice supersedes all previous notices regarding the Performance Review Board membership.

DATES: These appointments are effective October 28, 2024.

FOR FURTHER INFORMATION CONTACT: Pervis Lee, Director of Human Resources, Merit Systems Protection Board, 1615 M Street NW, Washington, DC 20419; telephone: (771) 210-1492; or email: pervis.lee@mspb.gov.

SUPPLEMENTARY INFORMATION: The Merit Systems Protection Board (MSPB) is publishing the names of the current members of its Performance Review Board (PRB) as required by 5 U.S.C. 4314(c)(4) and 5 CFR 430.311. Laura M. Albornoz, MSPB, serves as Chair of the PRB. Susan M. Swafford, MSPB; Gina K. Grippando, MSPB; and David S. Eddy III, Federal Labor Relations Authority, serve as members of the PRB.

Gina K. Grippando,
Clerk of the Board.

[FR Doc. 2024-24936 Filed 10-25-24; 8:45 am]

BILLING CODE P